INTER-AMERICAN FOUNDATION

Meeting of the Board of Directors and Advisory Council; Sunshine Act

Time and Date: June 3, 2002, 9:30 a.m.-3:00 p.m.

Place: Inter-American Foundation, 901 N. Stuart Street, 10th Floor, Arlington, VA 22203.

Status: Open session.

Matters to be Considered: • Approval of the Minutes of the March 1, 2002, Meeting of the Board of Directors

• President's Report

• IAF 2001 Results Report

• Investment Initiative

CONTACT PERSON FOR MORE INFORMATION: Carolyn Karr, General Counsel, (703) 306-4350.

Dated: May 16, 2002.
Carolyn Karr,
General Counsel.

[FR Doc. 02-12821 Filed 5-17-02; 2:41 pm]

BILLING CODE 7025-01-M